DEPARTMENT OF TRANSPORTATION

Federal Aviation Administration

Notice of Intent to Rule on Application to a Passenger Facility Charge (PFC) at Killeen Municipal Airport, Kileen, TX and Use the Revenue at Killeen Municipal Airport and Robert Gray Army Airfield

AGENCY: Federal Aviation Administration (FAA), DOT.

ACTION: Notice of intent to rule on application.

SUMMARY: The FAA proposes to rule and invites public comment on the application to impose at Killeen Municipal Airport and use the revenue from a PFC at Killeen Municipal Airport and Robert Gray Army Airfield under the provisions of the Aviation Safety and Capacity Expansion Act of 1990 (Title IX of the Omnibus Budget Reconciliation Act of 1990) (Pub. L. 101-508) and Part 158 of the Federal Aviation Regulations (14 CFR part 158).

DATES: Comments must be received on or before January 5, 2001.

ADDRESSES: Comments on this application may be mailed or delivered in triplicate copies to the FAA at the following address: Mr. G. Thomas Wade, PFC Program Manager, Federal Aviation Administration, Southwest Region, Airports Division, Planning and Programming Branch, ASW-611, Fort Worth, Texas 76193-0610.

In addition, one copy of any comments submitted to the FAA must be mailed or delivered to Mr. Don O. Christian, Manager of Killeen Municipal Airport at the following address: Mr. Don O. Christian, Director of Aviation, Killeen Municipal Airport, 1525 Airport Drive, Box A, Killeen, TX 76543-5536.

Air carriers and foreign air carriers may submit copies of the written comments previously provided to the Airport under Section 158.23 of Part 158.

FOR FURTHER INFORMATION CONTACT: Mr. G. Thomas Wade, PFC Program Manager, Federal Aviation Administration, Southwest Region, Airports Division, Planning and Programming Branch, ASW-611, Fort Worth, Texas 76193-0610.

The application may be reviewed in person at this same location.

SUPPLEMENTARY INFORMATION: The FAA proposes to rule and invites public comment on the application to impose the revenue from a PFC at Killeen Municipal Airport and use the revenue at Killeen Municipal Airport (ILE) and Robert Gray Army Airfield (GRK) under the provisions of the Aviation Safety and Capacity Expansion Act of 1990 (Title IX of the Omnibus Budget Reconciliation Act of 1990) (Pub. L. 101-508) and Part 158 of the Federal Aviation Regulations (14 CFR part 158).

On November 22, 2000, the FAA determined that the application to impose and use the revenue from a PFC submitted by the Airport was substantially complete within the requirements of § 158.25 of part 158. The FAA will approve or disapprove the application, in whole or in part, no later than February 24, 2001.

The following is a brief overview of the application.

Level of the proposed PFC: $4.50

Proposed charge effective date: May 1, 2001.

Proposed charge expiration date: July 1, 2005.

Total estimated PFC revenue: $2,570,000.

PFC application number: 01-05-C-00-ILE.

Brief description of proposed project(s):

Projects To Impose and Use PFC's:

1. Construct Partial Parallel Taxiway to Runway 15-33 (GRK).

2. Terminal Facilities Site Work, Utilities and Access Road (GRK).

3. Construct Terminal Building and Apron (GRK).

4. Acquire Additional Land for Terminal (GRK).

5. Runway Safety Area Improvements (ILE).

Proposed class or classes of air carriers to be exempted from collecting PFC's: FAR Part 135 on demand air Taxi/Commercial Operator (ATCO) reporting on FAA Form 1800-31.

Any person may inspect the application in person at the FAA office listed above under FOR FURTHER INFORMATION CONTACT and at the FAA regional Airports office located at: Federal Aviation Administration, Southwest Region, Airports Division, Planning and Programming Branch, ASW-610, 2601 Meacham Blvd., Fort Worth, Texas 76137-4298.

In addition, any person may, upon request, inspect the application, notice and other documents germane to the application in person at Killeen Municipal Airport.

Issued in Forth Worth, Texas on November 22, 2000.
Naomi L. Saunders,
Manager, Airports Division.

[FR Doc. 00-31089 Filed 12-5-00; 8:45 am]

BILLING CODE 4910-13-M